DEPARTMENT OF THE TREASURY

Internal Revenue Service

Open Meeting of the Area 2 Taxpayer Advocacy Panel (Including the States of Delaware, North Carolina, South Carolina, New Jersey, Maryland, Pennsylvania, Virginia, West Virginia and the District of Columbia)

AGENCY: Internal Revenue Service (IRS) Treasury.

ACTION: Notice.

SUMMARY: An open meeting of the Area 2 Taxpayer Advocacy Panel will be conducted in Columbia, S.C. The Taxpayer Advocacy Panel is soliciting public comments, ideas, and suggestions on improving customer service at the Internal Revenue Service.

DATES: The meeting will be held Friday, February 18, 2005, and Saturday, February 19, 2005.

FOR FURTHER INFORMATION CONTACT: Inez E. De Jesus at 1-888-912-1227 (toll-free), or 954-423-7977 (non toll-free).

SUPPLEMENTARY INFORMATION: Notice is hereby given pursuant to section 10 (a) (2) of the Federal Advisory Committee Act, 5 U.S.C. App. (1988) that an open meeting of the Area 2 Taxpayer Advocacy Panel will be held Friday, February 18, 2005 from 8 a.m. to 12 p.m. and from 1 p.m. to 5 p.m. ET and Saturday, February 19, 2004 from 8 a.m. to 12 p.m. ET in Columbia, S.C. at the Internal Revenue Service office, 1835 Assembly Street, Columbia, S.C. 29201. For information or to confirm attendance, notification of intent to attend the meeting must be made with Inez De Jesus. Ms. De Jesus may be reached at 1-888-912-1227 or 954-423-7977, or write Inez E. De Jesus, TAP Office, 1000 South Pine Island Rd., Suite 340, Plantation, FL 33324, or post comments to the Web site: http://www.improveirs.org. The agenda will include the following: Various IRS issues.

Dated: January 19, 2005.
Martha Curry,
Acting Director, Taxpayer Advocacy Panel.

[FR Doc. 05-1330 Filed 1-24-05; 8:45 am]

BILLING CODE 4830-01-P